DEPARTMENT OF ENERGY

Federal Energy Regulatory Commission

[Docket No. CP00-425-000]

Dominion Transmission, Inc. (formerly CNG Transmission Corp.); Notice of Request Under Blanket Authorization

Correction

In notice document 00-20484 beginning on page 49557 in the issue of Monday, August 14, 2000, the docket number should read as set forth above.

[FR Doc. C0-20484 Filed 8-24-00; 8:45 am]

BILLING CODE 1505-01-D

DEPARTMENT OF ENERGY

Federal Energy Regulatory Commission

[Docket Nos. EC96-19-000 and ER96-1663-000]

California Power Exchange Corporation; Notice of Filing

Correction

In notice document 00-20785 beginning on page 49974 in the issue of Wednesday, August 16, 2000, make the following correction:

On page 49974, in the first column, the docket numbers should appear as set forth above.

[FR Doc. C0-20785 Filed 8-24-00; 8:45 am]

BILLING CODE 1505-01-D

DEPARTMENT OF THE INTERIOR

Fish and Wildlife Service

50 CFR Part 17

RIN 1018-AF97

Endangered and Threatened Wildlife and Plants; Reopening of Comment Period and Notice of Availability of Draft Economic Analysis on Proposed Critical Habitat Determination for the San Diego Fairy Shrimp

Correction

In proposed rule document 00-21308 beginning on page 50672 in the issue of Monday, August 21, 2000, make the following correction:

1. On page 50673, in the first column, in the first line, “September 11, 2000” should read “September 5, 2000”.

2. On the same page, in the third column, in the first paragraph, in the third line from the bottom, “September 15, 2000” should read “September 5, 2000”.

[FR Doc. C0-21308 Filed 8-24-00; 8:45 am]

BILLING CODE 1505-01-D